DEPARTMENT OF HEALTH AND HUMAN SERVICES

Centers for Disease Control and Prevention

[30 Day-05-0414X]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 371-5983 or send an e-mail to omb@cdc.gov. Send written comments to CDC Desk Officer, Human Resources and Housing Branch, Office of Management and Budget by fax to (202) 395-6974. Written comments should be received within 30 days of this notice.

Proposed Project

Ecology of Bats in Households: A Survey for Assessing Knowledge, Attitudes, and Health Risks—New—National Center for Infectious Diseases (NCID), Centers for Disease Control and Prevention (CDC).

Bats are associated with many different kinds of infectious diseases that may be pathogenic to humans. Anthropogenic change from urban sprawl provides new roosts for bats in homes and buildings while reducing available natural roosts and putting humans in more frequent contact with bats. The largest public health concern with respect to bat exposure is the transmission of rabies virus—about 75% of human rabies deaths are from bat-associated rabies variants. The current U.S. guidelines for animal rabies prevention and control recommend that bats be excluded from houses and adjacent structures to prevent direct association with humans. While direct association with bats is certainly a risk factor for rabies transmission, little is known about the effects of indirect association with bats and potential adverse health effects. This is of public health concern because many organizations actually promote interactions between bats and humans, without consideration of public health consequences.

The questionnaire will establish bat exposure history, general personal health history including frequency of post-exposure prophylaxis for rabies and knowledge and attitudes pertaining to bat roosts. The Colorado State University/United States Geological Survey (USGS) study provides both a background for bat and rabies virus ecology in the Fort Collins area, and the ability of conservation and health issues to be relayed to the public.

We will evaluate health outcomes among household members by administering a survey focused on frequency and nature of hospital/clinic visits, frequency of bat exposure, and frequency of post-exposure prophylaxis (PEP) for rabies.

The list of households with roosts is provided by Colorado State University bat researchers, identified through radio-tagging of bats. We plan to improve the knowledge of the ecology of bats and associated rabies transmission by assimilating rabies prevalence data in a bat population with data regarding the roost ecology and bat/human interaction ecology in a rapidly sprawling suburban area, Ft. Collins, Colorado. There is no cost to the respondents other than their time. The total annualized burden hours are 178.

Annualized Burden Table
Respondents | Number of respondents | Number of responses/respondent | Average burden/response (in hours)
Households with Bats (n=45) | 81 | 1 | 30/60
Households without Bats (n=153) | 275 | 1 | 30/60

Dated: March 14, 2005.
Betsey Dunaway,
Acting Reports Clearance Officer, Centers for Disease Control and Prevention.

[FR Doc. 05-5384 Filed 3-17-05; 8:45 am]

BILLING CODE 4163-18-P